DEPARTMENT OF TRANSPORTATION

Federal Highway Administration

Buy America Waiver Notification

AGENCY: Federal Highway Administration (FHWA), DOT.

ACTION: Notice.

SUMMARY: This notice provides information regarding FHWA's finding that a Buy America waiver is appropriate for 33 iron and steel components of Georgia Ports Authority-procured Rail Mounted Gantry (RMG) cranes that will increase intermodal capacity at the Garden City Terminal in Garden City, Georgia. These iron and steel components are not manufactured (from melting to coating) in the United States in sufficient and reasonably available quantities and of a satisfactory quality.

DATES: The effective date of the waiver is November 21, 2017.

FOR FURTHER INFORMATION CONTACT: For questions about this notice, please contact Mr. Gerald Yakowenko, FHWA Office of Program Administration, (202) 366-1562, or via email at Gerald.Yakowenko@dot.gov. For legal questions, please contact Mr. Jomar Maldonado, FHWA Office of the Chief Counsel, 202-366-1373, or via email at Jomar.Maldonado@dot.gov. Office hours for the FHWA are from 8:00 a.m. to 4:30 p.m., E.T., Monday through Friday, except Federal holidays.

SUPPLEMENTARY INFORMATION:

Electronic Access

An electronic copy of this document may be downloaded from the Federal Register's home page at: http://www.archives.gov and the Government Publishing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when satisfactory quality domestic steel and iron products are not sufficiently available (non-availability). This notice provides information regarding FHWA's finding that a Buy America waiver is appropriate for twenty-eight iron and steel components of eight RMG cranes that will be procured by the Georgia Ports Authority to increase intermodal capacity at the Garden City Terminal in Garden City, Georgia due to non-availability.

In accordance with the Consolidated Appropriations Act of 2017 (Pub. L. 115-31), FHWA published a notice seeking comments on whether a waiver is appropriate on its Web site, https://www.fhwa.dot.gov/construction/contracts/waivers.cfm?id=150 on May 9. The FHWA received no comments in response to the publication.

The Georgia Ports Authority commissioned an independent study demonstrating that RMG cranes could not be produced domestically. These findings are consistent with past studies demonstrating that no RMG cranes using 100 percent domestic steel and iron are reasonably available. Based on vendor responses to the port's procurement solicitation, some crane components could be manufactured in the U.S. However, the following 33 items are not manufactured in the U.S. in manner that the iron and steel complies with FHWA's Buy America requirements: gantry motor, gantry motor brake, gantry gearbox couplings, gantry gearbox, gantry wheel, gantry guide and thrust roller assembly, gantry rail brake hydraulic pump, gantry rail brake hydraulic solenoid, gantry oleo bumper, trolley motor, trolley motor brake, trolley motor gearbox coupling, trolley motor gearbox, trolley wheel, trolley guide thrust roller assembly, trolley oleo bumper, hoist motor, hoist motor gearbox coupling, hoist gearbox, hoist gearbox hoist drum coupling, hoist brake thruster, hoist sheave, hoist headblock sheave, slew motor, slew motor brake, slew motor gearbox coupling, slew gearbox, gantry cable rear motor, gantry cable reel gearbox, gantry cable reel brake assembly, gantry cable reel slip ring assembly, load cell pin, and main power transformer. Based on all the information available to the agency, FHWA concludes that there are no domestic manufacturers for these 33 components of RMG cranes for use by the Georgia Ports Authority. Accordingly, the FHWA waives the Buy America requirements for these 33 components. This limited waiver does not include steel and iron components of the RMG cranes that are available with steel and iron produced domestically, including the steel gantry structure.

This project will be completed under a Fostering Advancements in Shipping and Transportation for the Long-term Achievement of National Efficiencies, Significant Freight, and Highway Projects FY 2016 grant award (commonly referred to as FASTLANE grants).

In accordance with the provisions of section 117 of the SAFETEA-LU Technical Corrections Act of 2008 (Pub. L. 110-244, 122 Stat. 1572), FHWA is providing this notice as its finding that a waiver of Buy America requirements is appropriate. The FHWA invites public comment on this finding for an additional 15 days following the effective date of the finding. Comments may be submitted to FHWA's Web site via the link provided to the waiver page noted above.

Authority: 23 U.S.C. 313; Pub. L. 110-161, 23 CFR 635.410

Issued on: November 13, 2017.
Brandye L. Hendrickson,
Acting Administrator, Federal Highway Administration.

[FR Doc. 2017-25074 Filed 11-17-17; 8:45 am]

BILLING CODE 4910-22-P